DEPARTMENT OF ENERGY

Federal Energy Regulatory Commission

[Docket No. IC22-5-000]

Commission Information Collection Activities (FERC Form Nos. 60, 60A, FERC-61, and FERC-555A); Consolidated Comment Request; Extension

AGENCY: Federal Energy Regulatory Commission, Department of Energy.

ACTION: Notice of information collections and request for comments.

SUMMARY: In compliance with the requirements of the Paperwork Reduction Act of 1995, the Federal Energy Regulatory Commission (Commission or FERC) is soliciting public comment on the currently approved information collections, FERC Form Nos. 60 and 60A (Annual Report of Centralized Service Companies), FERC-61 (Narrative Description of Service Company Functions), and FERC-555A (Preservation of Records Companies and Service Companies Subject to PUHCA).

DATES: Comments on the collections of information are due January 24, 2022.

ADDRESSES: You may submit comments (identified by Docket No. IC22-5-000 and the form) by either of the following methods:

• Electronic Filing: Documents must be filed in acceptable native applications and print-to-PDF, but not in scanned or picture format.

• For those unable to file electronically, comments may be filed by USPS mail or by hand (including courier) delivery:

○ Mail via U.S. Postal Service only, addressed to: Federal Energy Regulatory Commission, Secretary of the Commission, 888 First Street NE, Washington, DC 20426.

○ Hand (including courier) delivery to: Federal Energy Regulatory Commission, 12225 Wilkins Avenue, Rockville, MD 20852.

Please reference the specific collection number and/or title in your comments.

Instructions: All submissions must be formatted and filed in accordance with submission guidelines at: http://www.ferc.gov. For user assistance contact FERC Online Support by email at ferconlinesupport@ferc.gov, or by phone at (866) 208-3676 (toll-free).

Docket: Users interested in receiving automatic notification of activity in this docket or in viewing/downloading comments and issuances in this docket may do so at http://www.ferc.gov.

FOR FURTHER INFORMATION CONTACT: Ellen Brown may be reached by email at DataClearance@FERC.gov, and telephone at (202) 502-8663.

¹ Due to expiration dates in 2019 for many of the Commission's financial forms, the renewal work for several of the forms was in process or pending at OMB during the 2019 Forms Refresh rulemaking effort in Docket No. RM19-12-000. The simultaneous OMB processes required the assignment of alternate temporary information collection numbers (e.g., 60A) at the NOPR and/or final rule stages. Accordingly, FERC Form No. 60A represents the additional burden associated with the final rule in RM19-12-000. Revisions to the Filing Process for Comm'n Forms, Order No. 859, 167 FERC ¶ 61,241 (2019).

SUPPLEMENTARY INFORMATION:¹

Type of Request: Three-year extension of the information collection requirements for FERC Form Nos. 60 and 60A, FERC-61, and FERC-555A with no changes to the current reporting requirements. Please note the three collections (60 including 60A, 61, and 555A) are distinct.²

² For purposes of this notice, unless otherwise stated, FERC Form Nos. 60 and 60A are collectively referred to as “FERC Form No. 60.” Because this renewal will incorporate the requirements and burden represented by FERC Form No. 60A into FERC Form No. 60, it is anticipated that the Commission will eventually seek to retire the 60A as duplicative.

FERC Form No. 60 (Annual Report of Centralized Service Companies), FERC-61 (Narrative Description of Service Company Functions), and FERC-555A (Preservation of Records Companies and Service Companies Subject to PUHCA)

OMB Control Nos. and Titles: 1902-0215 ((FERC Form Nos. 60 (Annual Report of Centralized Service Companies), FERC-61 (Narrative Description of Service Company Functions), and FERC-555A (Preservation of Records Companies and Service Companies Subject to PUHCA)), and 1902-0308 (FERC Form No. 60A, Annual Report of Centralized Service Companies—Modifications to FERC Form No. 60 due to Final Rule in Docket No. RM19-12-000).

Abstract: In accordance with the Energy Policy Act of 2005 (EPAct 2005), the Commission implemented the repeal of the Public Utility Holding Company Act of 1935 (PUHCA 1935) and implemented the provisions of a newly enacted Public Utility Holding Company Act 2005 (PUHCA 2005). Pursuant to PUHCA 2005, the Commission requires centralized service companies to file FERC Form No. 60, unless the company is exempted or granted a waiver pursuant to the Commission's regulations. The information collected in FERC Form No. 60 enables better monitoring for cross-subsidization, and aids the Commission in carrying out its statutory responsibilities. In addition, centralized service companies are required to follow the Commission's preservation of records requirements for centralized service companies.

FERC Form No. 60

FERC Form No. 60 is an annual reporting requirement for centralized service companies set forth in 18 CFR 366.23. The report's function is to collect financial information (including balance sheet, assets, liabilities, billing and charges for associated and non-associated companies) from centralized service companies subject to the Commission's jurisdiction. Unless the Commission exempts or grants a waiver pursuant to 18 CFR 366.3 and 366.4 to the holding company system, every centralized service company in a holding company system must prepare and file electronically with the Commission the FERC Form No. 60, pursuant to the General Instructions in the form.

FERC-61

FERC-61 is a filing requirement for service companies in holding company systems (including special purpose companies) that are currently exempt or granted a waiver of FERC's regulations and would not have to file FERC Form No. 60. Instead, those service companies are required to file, on an annual basis, a narrative description of the service company's functions during the prior calendar year (FERC-61). In complying, a holding company may make a single filing on behalf of all of its service company subsidiaries.

FERC-555A

The Commission's regulations prescribe a mandated preservation of records requirements for holding companies and service companies (unless otherwise exempted by FERC). This requires them to maintain and make available to FERC, their books and records. The preservation of records requirement provides for uniform records retention by holding companies and centralized service companies subject to PUHCA 2005.

Data from FERC Form No. 60, FERC-61, and FERC-555A provide a level of transparency that: (1) Helps protect ratepayers from pass-through of improper service company costs, (2) enables the Commission to review and determine cost allocations (among holding company members) for certain non-power goods and services, (3) aids the Commission in meeting its oversight and market monitoring obligations, and (4) benefits the public, both as ratepayers and investors. In addition, the Commission's audit staff uses these records during compliance reviews and special analyses.

If data from FERC Form No. 60, FERC-61, and FERC-555A were not available, it would be difficult for the Commission to meet its statutory responsibilities under EPAct 1992, EPAct of 2005, and PUHCA 2005, and the Commission would have fewer of the regulatory mechanisms necessary to ensure transparency and protect ratepayers.

XBRL, Order No. 859, and FERC Form No. 60

Previously, FERC Form No. 60 filers would transmit the information in the form to the Commission using a software application called Visual FoxPro (VFP). This application is no longer supported by its developer, Microsoft Corporation. As a result, in April 2015, the Commission issued an order announcing its intention to replace the VFP filing format for certain Commission forms (including FERC Form No. 60) with an eXtensible Markup Language (XML)-based filing format. On June 20, 2019, the Commission issued Order No. 859, which adopted eXtensible Business Reporting Language (XBRL) as the standard for filing FERC Form No. 60 and certain other Commission forms.³

³ Revisions to the Filing Process for Comm'n Forms, Order No. 859, 167 FERC ¶ 61,241 (2019).

Type of Respondent: Centralized service companies.

Estimate of Annual Burden: ⁴ The Commission estimates the annual public reporting burden and cost ⁵ (rounded in the tables) for the information collection as:

⁴ Burden is defined as the total time, effort, or financial resources expended by persons to generate, maintain, retain, disclose, or provide information to or for a Federal agency. For further explanation of what is included in the information collection burden, refer to Title 5 Code of Federal Regulations 1320.3. The burden hours and costs are rounded for ease of presentation.

⁵ The cost for the Form 60 and FERC-61 is based on FERC's 2021 Commission-wide average salary cost (salary plus benefits) of $87.00/hour. The Commission staff believes the FERC FTE (full-time equivalent) average cost for wages plus benefits is representative of the corresponding cost for the industry respondents. For the FERC-555A, the $35.83 hourly cost figure comes from the average cost (wages plus benefits) of a file clerk (Occupation Code 43-4071) as posted on the BLS website (http://www.bls.gov/oes/current/naics2_22.htm).

Total Annual Cost: $5,009,444 (Paperwork Burden) + $49,148 (Record Retention storage cost) = $5,058,592.

A more granular breakdown of the FERC-60/61/555A cost categories follows:

Labor Cost: The total estimated annual cost for labor burden to respondents is $5,009,444 [$285,012 (FERC Form No. 60) + $3,520 (FERC-61) + $4,720,912 (FERC-555A)].

FERC Form No. 60: 42 respondents × $6,786 per respondent = $285,012.

FERC-61: 80 respondents × $44 per respondent = $3,520.

FERC-555A: 122 respondents × $38,696 per respondent = $4,720,912.

Storage Cost: ⁶ In addition to the labor (burden cost provided above), there are additional costs that represent record retention and storage costs:

⁶ Internal analysis assumes 50% paper storage and 50% electronic storage.

• Paper storage costs (using an estimate of 60 cubic feet × $6.46 per cubic foot): $387.60 per respondent annually. Total annual paper storage cost to industry ($387.60 × 122 respondents): $47,287. This estimate assumes that a respondent stores the same volume of paper as it did in the past and that the cost of such storage has not changed. We expect that this estimate should trend downward over time as more companies move away from paper storage and rely more heavily on electronic storage.

• Electronic storage costs: $15.25 per respondent annually. Total annual electronic storage cost to industry ($15.25 × 122 respondents): $1,861. This calculation retains the previous estimate that storage of 1GB per year is $15.25. We expect that this estimate should trend downward over time as the cost of electronic storage technology, including cloud storage, continues to decrease. For example, external hard drives of approximately 500GB are available for approximately $50. In addition, cloud storage plans from multiple providers for 1TB of storage (with a reasonable amount of requests and data transfers) are available for less than $35 per month.

Comments: Comments are invited on: (1) Whether the collections of information are necessary for the proper performance of the functions of the Commission, including whether the information will have practical utility; (2) the accuracy of the agency's estimates of the burden and cost of the collections of information, including the validity of the methodology and assumptions used; (3) ways to enhance the quality, utility, and clarity of the information collections; and (4) ways to minimize the burden of the collections of information on those who are to respond, including the use of automated collection techniques or other forms of information technology.

Debbie-Anne A. Reese,
Deputy Secretary.

[FR Doc. 2021-25675 Filed 11-23-21; 8:45 am]

BILLING CODE 6717-01-P